DEPARTMENT OF ENERGY

Federal Energy Regulatory Commission

[Project No. 15255-000]

Oquirrh Energy Storage, LLC; Notice of Preliminary Permit Application Accepted for Filing and Soliciting Comments, Motions To Intervene, and Competing Applications

On January 25, 2022, Oquirrh Energy Storage, LLC, filed an application for a preliminary permit, pursuant to section 4(f) of the Federal Power Act (FPA), proposing to study the feasibility of the proposed 500-megawatt (MW) Oquirrh Pumped Storage Project to be located on Coon Canyon Creek near the cities of Kearns and Magna in Salt Lake County, Utah. The sole purpose of a preliminary permit is to grant the permit holder priority to file a license application during the permit term. A preliminary permit does not authorize the permit holder to perform any land-disturbing activities or otherwise enter upon lands or waters owned by others without the owners' express permission.

The proposed project would consist of the following new facilities: (1) a 29-acre upper reservoir with a storage capacity of 3,400 acre-feet at a water surface elevation of 7,005 feet above mean sea level (msl), which would be formed by a ring-shaped roller-compacted concrete (RCC) dam; (2) a 55-acre lower reservoir with a storage capacity of 3,600 acre-feet at a water surface elevation of 5,5630 feet msl, which would formed within Coon Canyon by a 850-foot-long, 220-foot-high RCC dam; (3) a combination of buried pipe and underground tunnels connecting the upper and lower reservoirs, consisting of: (a) three 10-foot-diameter, 3,3000-foot-long steel pipes; (b) three 10-foot-diameter, 1,300-foot-long vertical shafts; and (c) a 21.9-foot-diameter, 3,150-foot-long tailrace tunnel; (4) a 300-foot-long, 80-foot-wide, 120-foot-high underground powerhouse housing three166.66-MW reversible pump turbines; (5) an 11-mile-long transmission line interconnecting with the grid at Rocky Mountain Power's Oquirrh Substation; and (6) appurtenant facilities. The proposed source of initial fill water would be groundwater purchased from an existing water rights holder, with subsequent refill water required due to evaporation or any residual leakage coming from either groundwater or natural flow through Coon Canyon Creek. The estimated annual energy production of the proposed project would be approximately 876,000 megawatt-hours.

Applicant Contact: Mr. Matthew Shapiro, CEO, Oquirrh Energy Storage, LLC, 201 S Main Street, Suite 2100, Salt Lake City, Utah 84111; email: mshapiro@rplushydro.com; phone (208) 246-9925.

FERC Contact: Khatoon Melick; email; khatoon.melick@ferc.gov; phone (202) 502-8433.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters without prior registration using the eComment system at https://ferconline.ferc.gov/QuickComment.aspx. For assistance, please get in touch with FERC Online Support at FERCOnlineSupport@ferc.gov, (866) 208-3676 (toll-free), or (202) 502-8659 (TTY). Instead of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15255-000.

More information about this project, including a copy of the application, can be viewed or printed on the “eLibrary” link of the Commission's website at https://elibrary.ferc.gov/eLibrary/search. Enter the docket number (P-15255) in the docket number field to access the document. For assistance, do not hesitate to get in touch with FERC Online Support.

Dated: June 20, 2024.
Debbie-Anne A. Reese,
Acting Secretary.

[FR Doc. 2024-14044 Filed 6-26-24; 8:45 am]

BILLING CODE 6717-01-P